ENVIRONMENTAL PROTECTION AGENCY

40 CFR Part 52

[R05-OAR-2005-IN-0006; FRL-7981-7]

Determination of Attainment, Approval and Promulgation of Implementation Plans and Designation of Areas for Air Quality Planning Purposes; Indiana; Redesignation of the Evansville Area to Attainment of the 8-Hour Ozone Standard

AGENCY: Environmental Protection Agency (EPA).

ACTION: Proposed rule; extension of public comment period.

SUMMARY: EPA is extending the comment period for a proposed rule published September 9, 2005 (70 FR 53605). On September 9, 2005, EPA proposed to approve the State of Indiana's request to redesignate the Evansville area (Vanderburgh and Warrick Counties) to attainment of the 8-hour ozone National Ambient Air Quality Standard. In conjunction with the proposed approval of the redesignation request for the Evansville area, EPA proposed to approve the State's ozone maintenance plan for the 8-hour ozone NAAQS through 2015 in this area as a revision to the Indiana State Implementation Plan. EPA also proposed to approve 2015 Volatile Organic Compounds and Oxides of Nitrogen Motor Vehicle Emissions Budgets, which are supported by and consistent with the 10-year maintenance plan for this area, for purposes of transportation conformity. In response to a September 9, 2005, request from Valley Watch, Inc., EPA is extending the comment period for 7 days.

DATES: The comment period is extended to October 18, 2005.

ADDRESSES: Submit comments, identified by Regional Material in EDocket (RME) ID No. R05-OAR-2005-IN-0006, to: John M. Mooney, Chief, Criteria Pollutant Section, (AR-18J), U.S. Environmental Protection Agency, Region 5, 77 West Jackson Boulevard, Chicago, Illinois 60604. E-mail: mooney.john@epa.gov. Additional instructions to comment can be found in the notice of proposed rulemaking published September 9, 2005 (70 FR 53605).

FOR FURTHER INFORMATION CONTACT: Edward Doty, Environmental Scientist, Criteria Pollutant Section, Air Programs Branch (AR-18J), United States Environmental Protection Agency, Region 5, 77 West Jackson Boulevard, Chicago, Illinois 60604, (312) 886-6057, Doty.Edward@epa.gov.

Dated: September 29, 2005.
Bharat Mathur,
Acting Regional Administrator, Region 5.

[FR Doc. 05-20094 Filed 10-4-05; 8:45 am]

BILLING CODE 6560-50-P